DEPARTMENT OF AGRICULTURE

Forest Service

Chippewa National Forest; Minnesota; Transfer of Administrative Jurisdiction to Lands To Be Held in Trust by the United States for the Benefit of the Leech Lake Band of the Minnesota Chippewa Tribe Pursuant to the Leech Lake Band of Ojibwe Reservation Restoration Act

AGENCY: Forest Service, USDA.

ACTION: Notice of transfer of administrative jurisdiction to land.

SUMMARY: Pursuant to the Leech Lake Band of Ojibwe Reservation Restoration Act (Act), the Secretary of Agriculture (Secretary), with the publication of this Notice, transfers administrative jurisdiction to approximately 11,760 acres of land (Federal land), located in the Chippewa National Forest in Cass County, Minnesota, to the Secretary of the Interior to be held in trust by the United States for the benefit of the Leech Lake Band of the Minnesota Chippewa Tribe, referred to in the Act as the Leech Lake Band of Ojibwe (LLBO or Tribe). A table containing the legal descriptions of the lands to which administrative jurisdiction is hereby transferred, along with accompanying Exhibit A, identifying existing public roads, and Exhibit B, identifying existing Forest roads and a Forest trail that the Forest Service will continue to operate pursuant to the terms of reserved easement rights approved by the Tribe, are provided at the end of this notice.

DATES: The transfer of administrative jurisdiction will be effective upon the publication of this Notice.

ADDRESSES: The boundaries of the Federal land are depicted on maps and in legal descriptions available for inspection at the Chippewa National Forest Supervisor's Office and at the Bureau of Indian Affairs (BIA) Minnesota Agency.

Chippewa National Forest Supervisor's Office: Chippewa National Forest, 200 Ash Avenue NW, Cass Lake, MN 56633.

BIA Minnesota Agency:

Mailing/Physical Address: Bureau of Indian Affairs, 2225 Cooperative Court NW, Room 300, Bemidji, MN 56601.

FOR FURTHER INFORMATION CONTACT:

Michael Stansberry, Forest Supervisor, Chippewa National Forest, 200 Ash Avenue NW, Cass Lake, MN 56633, 218-335-8600 (ph), 218-335-8637 (fax), or email at SM.FS.ChipNFpublic@usda.gov.

Heidi Gordon, Superintendent, BIA Minnesota Agency, 2225 Cooperative Court NW, Room 300 Bemidji, MN 56601, 218-751-2011 Ext. 1401 (ph), 218-751-4367 (fax), or email at Minnesota_Agency@bia.gov.

SUPPLEMENTARY INFORMATION:

Transfer of Administrative Jurisdiction: The right, title, and interest of the United States to the approximately 11,760 acres of Federal land described below in this notice, including improvements and appurtenances, subject to valid existing rights, is transferred as provided in the Act (Pub. L. 116-255, 134 Stat. 1139) from the Secretary of Agriculture to the Secretary of the Interior upon the publication of this Notice. After transfer, the land will be held in trust by the United States for the benefit of the LLBO. The Act provides that the LLBO will respect existing utility easements, rights of way for roads, and flowage and reservoir rights. Existing public roads, and the Forest roads and Forest trail that the Forest Service will continue to operate, are further discussed later in this Notice at Exhibit A and Exhibit B, respectively. This Notice does not undertake to specifically list currently existing public utility easements, flowage or reservoir rights, or other valid existing rights to which the transfer of jurisdiction is subject.

National Environmental Policy Act Analysis: The Forest Service, Chippewa National Forest, has undertaken environmental review of this transfer pursuant to the National Environmental Policy Act (NEPA) and found that the transfer of administrative jurisdiction falls under the Categorical Exclusion (CE) in 36 CFR 220.6(7), “Sale or exchange of land or interest in land where resulting land uses remain essentially the same.” Although not required for actions under this CE, the Chippewa National Forest elected to document its decision in a Decision Memo, available at https://www.fs.usda.gov/project/?project=64623 or by contacting the Chippewa Forest Supervisor as listed in the FOR FURTHER INFORMATION CONTACT section above.

Legal Description & Ongoing Surveys: The legal description of the Federal land to which administrative jurisdiction is hereby transferred is provided in the Table below, under the heading “Legal Descriptions of Federal Land Transferred.” A small percentage of the Federal land (approximately 4 percent) is currently being surveyed by the Department of Interior, Bureau of Land Management (BLM). The Federal lands still being surveyed are identified below by a notation of “Estimated Acreage” in the below Table. The transfer of administrative jurisdiction of all the Federal land in the Table is effective upon the date of publication of this Notice; however, to the extent any updates to the acreage of any parcels being surveyed are needed, they will be published by the Forest Service in a supplementary Federal Register Notice upon approval and the official filing of the surveys with the BLM, Eastern States Office.

Existing Public Roads and Forest Easement Roads: Existing public roads and Forest Service roads will continue to be respected after transfer as provided in the Act. As to the existing public roads, Federal law defines a “public road” as “any road or street under the jurisdiction of and maintained by a public authority and open to public travel.” 23 U.S.C. 101(a)(23). A “public authority” is defined by Federal law as “Federal, State, county, town, or township, Indian tribe, municipal or other local government or instrumentality with authority to finance, build, operate, or maintain toll or toll-free facilities.” 23 U.S.C. 101(a)(22). Existing public roads that are the responsibility of public authorities other than the Forest Service, such as the BIA, the State of Minnesota, and Town, County, and municipal entities, are listed in Exhibit A. The list of existing public roads is not exhaustive.

As to Forest Service roads, after transfer of the Federal land, the Forest Service will continue to operate the Forest roads and Forest trail identified in Exhibit B pursuant to the terms of reserved easement rights enumerated below, as approved by the Tribe (Forest Easement Roads). Forest road or trail is defined by federal regulations as “[a] road or trail wholly or partly within or adjacent to and serving the National Forest System that the Forest Service determines is necessary for the protection, administration, and utilization of the National Forest System and the use and development of its resources.” 36 CFR 212.1. All Forest Easement Roads and the terms under which the Forest Service will operate them are identified in Exhibit B.

Legal Descriptions of Federal Land Transferred
Fifth Principal Meridian, Minnesota | Acres | Twp. acres
T. 141 N., R 27 W.,
Sec. 29, Lots 8 and 10 | 37.85 |
Total Twp. Acres |  | 37.85
T. 142 N., R 27 W.,
Sec. 16, Lot 3 | 29.5 |
Sec. 17, Lot 1, SE¼NE¼, NE¼SE¼ | 112.34 |
Sec. 28, Lot 6 and 13, the West 20 Acres of Lot 7, NE¼SW¼, NE¼NW¼, NW¼NW¼ | 192.75 |
Sec. 30, Lot 13 | 23.65 |
Total Twp. Acres |  | 358.24
T. 144 N., R 27 W.,
Sec. 5, Lots 13 thru 17 | 204.81 |
Sec. 6, Lots 10 thru 12 | 94.57 |
Sec. 8, Lot 7 | 34.69 |
Total Twp. Acres |  | 334.07
T. 146 N., R 27 W.,
Sec. 21, NE¼SW¼, SE¼SW¼ Submerged Lands Attached | 38.80 |
Sec. 29, Lots 4 and 5 Partition Lands—Estimated Acreage | 62.45 |
Sec. 31, Lot 1 | 32.30 |
Sec. 32, Lot 1, SW¼NW¼ | 79.60 |
Total Twp. Acres |  | 213.15
T. 141 N., R 28 W.,
Sec. 4, Lot 1, E½SW¼SE¼, W½SW¼SE¼, SE¼SW¼, E½SW¼SW¼ | 149.53 |
Sec. 8, Lots 1 and 2, NE¼NW¼, NW¼NW¼ | 157.92 |
Sec. 9, NW¼NE¼ | 41.77 |
Sec. 10, NE¼NW¼, NW¼NW¼ | 85.65 |
Sec. 11, W½NE¼NW¼, NW¼NW¼ | 64.56 |
Sec. 14, Lots 8 and 9, S½SE¼NE¼ | 93.17 |
Sec. 23, Lot 1 | 40.72 |
Sec. 24, Lots 3 and 4, NW¼SE¼, SE¼SW¼, SW¼SW¼ | 184.24 |
Sec. 27, Lot 3, N½NW¼SW¼ | 52.84 |
Total Twp. Acres |  | 870.40
T. 142 N., R 28 W.,
Sec. 24, Lot 4 | 38.83 |
Sec. 27, SE¼SW¼ | 42.33 |
Sec. 34, Lot 2, NE¼NW¼, N½SE¼NW¼ | 95.79 |
Sec. 35, Lots 1 and 2, NE¼SE¼ | 123.57 |
Total Twp. Acres |  | 300.52
T. 143 N., R 28 W.,
Sec. 32, Lot 2 Less the North 200 feet | 11.60 |
Total Twp. Acres |  | 11.60
T. 145 N., R 28 W.,
Sec. 18, SE¼SE¼, SW¼SE¼ Submerged Lands Attached | 61.82 |
Sec. 19, Lots 1 and 2, NE¼NE¼, SE¼NE¼, SW¼NE¼, NW¼NE¼, SE¼SE¼, SW¼SE¼, SE¼SW¼, NE¼NW¼, SE¼NW¼ | 440.24 |
Sec. 20, NW¼SW¼, SW¼NW¼, NW¼NW¼ Submerged Lands Attached | 113.79 |
Sec. 21, SW¼SE¼, SE¼SW¼, SW¼SW¼ | 120 |
Sec. 28, SE¼NE¼, SW¼NE¼, NW¼NE¼, NE¼NW¼, SE¼NW¼ | 200 |
Sec. 34, NW¼SE¼, NE¼SW¼ | 80 |
Total Twp. Acres |  | 1,015.85
T. 141 N., R 29 W.,
Sec. 3, Lots 7 thru 9, N½NE¼SE¼, NW¼SE¼ | 160.27 |
Sec. 8, Lot 3 | 48.32 |
Sec. 10, Lots 1 and 3 | 33.31 |
Sec. 17, N½SE¼NE¼ | 19.28 |
Sec. 23, Lot 3 | 34.4 |
Total Twp. Acres |  | 295.58
T. 142 N., R 29 W.,
Sec. 2, Lots 8, 11, and 14, SE¼SE¼SW¼, W½NE¼SE¼SW¼ | 61.75 |
Sec. 11, Lot 3, SW¼NE¼ | 53.53 |
Sec. 14, Lot 8 | 31.54 |
Total Twp. Acres |  | 146.82
T. 144 N., R 29 W.,
Sec. 1, SE¼NE¼, SW¼NE¼, NE¼SE¼, SE¼SE¼, SW¼SE¼, NW¼SE¼, SE¼NW¼ | 280 |
Sec. 12, Lots 2 and 6 | 42.05 |
Sec. 27, Lots 1 thru 5, including the attached lands to Lots 1, 2, and 4 between the original meander line and the actual shoreline of Leech Lake. | 429.15 |
Sec. 28, Lot 1, including the attached lands to Lot 1 between the original meander line and the actual shoreline of Leech Lake. | 92.94 |
Sec. 30, South 962 feet of Lot 3, Lot 4, SW¼SE¼, NW¼SE¼, SE¼NW¼ | 80.41 |
Sec. 31, Lot 2, except that part of Lot 14 of Ottertail Homesite as portrayed on Certificate of Survey No. 7704, recorded in Cass County on August 6, 2001, Lot 3, and the NW¼NW¼ of Lot 4 | 71.71 |
Sec. 33, Lots 1 thru 4, including the attached lands to Lots 1 thru 4 between original meander line and the actual meander shoreline of Leech Lake. | 333.63 |
Total Twp. Acres |  | 1,329.89
T. 145 N., R 29 W.,
Sec. 2, SE¼SE¼ Submerged Lands Attached | 12.99 |
Sec. 11, NE¼NE¼ Submerged Lands Attached | 38.13 |
Sec. 12, Lot 2, Lot 5, NW¼SW¼, SW¼NW¼, NW¼NW¼ Partition Lands—Estimated Acreage | 132.06 |
Sec. 23, Lot 2, SE¼SW¼ | 70.75 |
Sec. 24, SW¼NE¼, NW¼NE¼ | 80 |
Sec. 25, NW¼NW¼ | 40.88 |
Sec. 26, Lots 1 thru 3, NE¼NE¼ | 125.20 |
Total Twp. Acres |  | 500.01
T. 146 N., R 29 W.,
Sec. 29, Lots 17 and 18 | 49.43 |
Sec. 31, Lot 5 | 35.42 |
Sec. 32, Lots 2, 3, and 7, SE¼NE¼, SW¼NE¼, NW¼NE¼ | 215.32 |
Sec. 33, Lots 5 thru 7, SW¼NW¼ | 151.03 |
Sec. 34, Lots 5, 7, and 13, NW¼SW¼ Partition Lands—Estimated Acreage | 139.16 |
Total Twp. Acres |  | 590.36
T. 141 N., R 30 W.,
Sec. 1, SW¼SW¼ | 38.99 |
Sec. 4, Lot 4, N½SW¼SW¼, NW¼SW¼, SW¼NW¼ | 138.27 |
Sec. 5, SW¼SE¼, SE¼SW¼, SW¼SW¼ | 119.7 |
Sec. 6, Lots 4 thru 6 | 120.46 |
Sec. 8, NW¼NE¼, NE¼NW¼, NW¼NW¼ | 121.94 |
Sec. 12, S½NE¼SE¼ | 20.57 |
Total Twp. Acres |  | 559.93
T. 142 N., R 30 W.,
Sec. 17, NE¼NE¼, N½SE¼NE¼, S½SE¼NE¼, N½SW¼NE¼, NW¼NE¼ | 137.2 |
Sec. 19, Lot 5 | 1.74 |
Sec. 20, Lot 1 and 5, N½SW¼SE¼ | 36.97 |
Sec. 29, SE¼SW¼, SW¼SW¼ | 80.47 |
Sec. 31, Lots 3 and 4, NE¼NE¼, SE¼NE¼, S½SW¼NE¼, N½SW¼NE¼, E½NW¼NE¼, W½NE¼SE¼, NW¼SE¼, S½SE¼NW¼ | 301.73 |
Sec. 32, SW¼SE¼ EXCEPT the South 208.71 feet of the West 208.71 feet thereof, NW¼NW¼ | 77.64 |
Sec. 35, Lots 4 and 14 | 70.01 |
Sec. 36, S½NE¼SW¼, S½NW¼SW¼, S½S½N½NW¼SW¼ | 44.86 |
Total Twp. Acres |  | 750.62
T. 143 N., R 30 W.,
Sec. 1, Lot 5, SE¼SW¼ | 61.9 |
Sec. 7, Lots 9 and 10 | 78.17 |
Sec. 12, Lots 3 and 4, NE¼NW¼ | 94.61 |
Sec. 18, Lots 2 thru 5 and 7 thru 9, SE¼NW¼, NE¼NW¼ | 365.01 |
Total Twp. Acres |  | 599.69
T. 144 N., R 30 W.,
Sec. 1, Lots 2 and 3 | 58.33 |
Sec. 36, Lot 1, EXCEPT the lands of the Plat of Hedin Habor on Leech Lake recorded Cass County in Vol. H of Plats, Page 51 on May 13, 1960 and also the lands of Hedin Harbor on Leech Lake First Addition recorded in Cass County in Vol. J of Plats, Page 41 on December 31, 1970. Including, however, those portions of said Lot 1 described as Lots 2, 3, and 4 in the Plat of Hedin Harbor on Leech Lake First Addition. | 18.19 |
Total Twp. Acres |  | 76.52
T. 145 N., R 30 W.,
Sec. 1, Lots 5 and 6 | 64.92 |
Sec. 8, Lot 2 | 39.65 |
Sec. 12, Lots 1 and 2, SW¼NE¼ | 129.98 |
Sec. 19, Lots 1 thru 3 | 104.61 |
Sec. 36, Lot 8 | 5.63 |
Total Twp. Acres |  | 344.79
T. 141 N., R 31 W.,
Sec. 13, Lots 1 and 2 | 75.58 |
Total Twp. Acres |  | 75.58
T. 142 N., R 31 W.,
Sec. 1, SE¼SW¼ | 39.46 |
Sec. 3, Lot 1 | 6.37 |
Sec. 4, Lots 3 thru Lot 4, Lot 5 EXCEPT the right of way of the Great Northern Railway Company | 77.34 |
Sec. 5, SE¼NE¼, NE¼SE¼, EXCEPT the right of way of the Great Northern Railway Company | 78.67 |
Sec. 6, Lot 8 | 39.75 |
Sec. 10, Lot 1 | 22.22 |
Sec. 11, Lot 1, EXCEPT that part depicted in the Plat of Survey by R.F. Schneider, amended June 7, 1984, recorded in the offices of the U.S. Forest Service, more particularly described as: Commencing at the southeast corner of said Government Lot 1, said corner being a U.S. G. L. O. brass cap monument; thence on an assumed bearing of North 88 degrees 30 minutes 16 seconds West, 445.46 feet along the south line of said Government Lot 1 to the point of beginning of the tract to be described; thence North 35 degrees 02 minutes 33 seconds West, 73.43 feet; thence North 88 degrees 30 minutes 16 seconds West, 315 feet more or less to the water's edge of Leech Lake; thence Southerly 60 feet more or less along said water's edge to the intersection with the south line of said Government Lot 1; thence South 88 degrees 30 minutes 16 seconds East, 339 feet more or less, along the south line of said Government Lot 1 to the point of beginning. NE¼NE¼, SE¼NE¼, E½SW¼NE¼, NW¼NE¼, NE¼SE¼, SE¼SE¼, SW¼SE¼, NW¼SE¼, NE¼NW¼, S½SE¼NW¼, NW¼NW¼ | 421.38 |
Sec. 12, Lots 2 and 4 and 9 thru 11, SW¼SW¼, N½NW¼SW¼, W½NE¼NW¼, SW¼NW¼ | 236.53 |
Sec. 14, Lots 4 thru 5 and 8 thru 9, NE¼NE¼, SE¼NE¼ Partition Lands—Estimated Acreage | 194.80 |
Sec. 23, Lot 1 | 0.27 |
Sec. 24, Lot 2 | 31.57 |
Total Twp. Acres |  | 1,148.36
T. 143 N., R 31 W.,
Sec. 11, Lots 3 and 4, NE¼SE¼, SE¼SE¼ | 146.01 |
Sec. 12, SW¼SW¼, NW¼SW¼ | 78.91 |
Sec. 14, Lot 1, NE¼NE¼, SE¼NE¼ Except the S½SW¼SE¼NE¼, NE¼SE¼, SW¼SE¼ | 210.35 |
Sec. 23, NE¼NE¼, SE¼NE¼, SW¼NE¼, NW¼NE¼, NE¼SE¼, SE¼SE¼, SW¼SE¼, NW¼SE¼, NE¼SW¼, SE¼SW¼, SE¼NW¼ | 439.73 |
Sec. 25, Lot 2, NW¼NE¼, NE¼NW¼ | 103 |
Sec. 26, Lot 6 and 9, NE¼NE¼, SW¼NE¼, NW¼NE¼, NE¼NW¼, SE¼NW¼ Partition Lands—Estimated Acreage | 279.76 |
Total Twp. Acres |  | 1,257.76
T. 144 N., R 31 W.,
Sec. 12, Lots 6 and 7 | 78.26 |
Sec. 13, Lots 1 thru 3, NE¼SE¼ | 152.53 |
Sec. 36, Lot 1, NW¼NE¼, NE¼NW¼ | 116.31 |
Total Twp. Acres |  | 347.1
T. 145 N., R 31 W.,
Sec. 2, Lots 3 and 4 | 75.63 |
Sec. 12, Lot 1 | 8 |
Sec. 13, Lots 1 thru 5, and 7 Partition Lands—Estimated Acreage | 209.25 |
Sec. 14, Lot 6, NE¼NE¼ | 60.5 |
Sec. 22, Lots 2 and 5, SW¼SW¼, NW¼SW¼, SW¼NW¼, NW¼NW¼ Partition Lands—Estimated Acreage | 202.1 |
Sec. 36, Lot 2 Partition Lands—Estimated Acreage | 57.96 |
Total Twp. Acres |  | 613.44

Legal descriptions of the Federal land are based on the Land Description Review Certificate prepared for the purposes of implementing this transfer by the U.S. Department of Interior, Bureau of Land Management, Eastern States for the Bureau of Indian Affairs, Midwest Region, relying in part on research provided by the U.S. Forest Service, Eastern Region, said Certificate to be retained in the official case file by each agency.

Exhibit A

Existing Public Roads Operated by Public Authorities Other Than the Forest Service

Certain existing public roads are identified in the following table.

Township range | Section | Legal sub-division | Road ID | Road name
T146N R27W | 29 | Gov't Lot 5 | FR-2163 | Tamarack Point Drive Northeast.
T141N R28W | 4 | Gov't Lot 1 | CAS-127 | 72nd St NE.
| 4 | E½SW¼SE¼ | MN-200 | Minnesota State Highway 200.
| 4 | E½SW¼SW¼ | MN-200 | Minnesota State Highway 200.
| 4 | SE¼SW¼ | MN-200 | Minnesota State Highway 200.
| 4 | W½SW¼SE¼ | MN-200 | Minnesota State Highway 200.
| 8 | Gov't Lot 2 | FR-2311 | Cass Co. 125—Three Island.
| 8 | NE¼NW¼ | FR-2311 | Cass Co. 125—Three Island.
| 8 | NE¼NW¼ | MN-200 | Minnesota State Highway 200.
| 8 | NW¼NW¼ | MN-200 | Minnesota State Highway 200.
| 11 | NW¼NW¼ | CAS-126 | County 126 NE.
| 11 | NW¼NW¼ | MN-200 | Minnesota State Highway 200.
| 14 | Gov't Lot 9 | CAS-126 | County 126 NE.
| 14 | S½SE¼NE¼ | FR-2894 | Haskell Road Northeast.
| 24 | Gov't Lot 3 | FR-2894 | Fahrenholz Road Northeast.
| 24 | NW¼SE¼ | FR-2894 | Fahrenholz Road Northeast.
| 24 | SE¼SW¼ | FR-2894 | Fahrenholz Road Northeast.
| 24 | SW¼SW¼ | FR-2894 | Fahrenholz Road Northeast.
T142N R28W | 27 | SE¼SW¼ | CAS-8 | Cass County 8
| 34 | N½SE¼NW¼ | CAS-8 | Cass County 8.
| 34 | NE¼NW¼ | CAS-8 | Cass County 8
T145N R28W | 19 | Gov't Lot 1 | FR-2167 | Cass Co. 91 Beltrami Co. 54
| 19 | NE¼NW¼ | FR-2167 | Cass Co. 91 Beltrami Co. 54
| 19 | SE¼NW¼ | FR-2167 | Cass Co. 91 Beltrami Co. 54
| 19 | SE¼SE¼ | FR-2167 | Cass Co. 91 Beltrami Co. 54
| 19 | SW¼NE¼ | FR-2167 | Cass Co. 91 Beltrami Co. 54
| 28 | SE¼NE¼ | US-2 | US Highway 2
| 28 | SE¼NW¼ | US-2 | US Highway 2
| 28 | SW¼NE¼ | US-2 | US Highway 2
| 34 | NE¼SW¼ | CAS-8 | Cass County 8
T141N R29W | 3 | Gov't Lot 7 | MN-200 | Minnesota State Highway 200
| 3 | Gov't Lot 8 | MN-200 | Minnesota State Highway 200
| 3 | Gov't Lot 9 | TWP-Pine Lake FR-2485 | Fairbanks Drive Northwest
| 3 | Gov't Lot 9 | MN-200 | Minnesota State Highway 200
| 3 | N½NE¼SE¼ | TWP-Pine Lake FR-2485 | Fairbanks Drive Northwest
| 8 | Gov't Lot 3 | MN-200 | Minnesota State Highway 200
| 8 | Gov't Lot 3 | TWP-Pine Lake Unk3 | Whipholt Beach Rd
T144N R29W | 1 | SE¼NW¼ | FR-2131 | Sunset Beach Road Northwest
| 30 | SE¼NW¼ | FR-2132F | Bay Shore
| 30 | NW¼SE¼ | FR-2132G | Senecs Road
| 31 | Gov't Lot 2 | FR-2917 | West Shores Road Northwest
| 31 | Gov't Lot 3 | FR-2917 | West Shores Road Northwest
| 31 | NW¼NW¼ of Gov't Lot 4 | FR-2917 | West Shores Road Northwest
T145N R29W | 12 | NW¼SW¼ | FR-2167 | Cass Co. 91 Beltrami Co. 54
| 23 | SE¼SW¼ | US-2 | US Highway 2
T146N R29W | 32 | SE¼NE¼ | FR-2167 | Cass Co. 91 Beltrami Co. 54
| 32 | SW¼NE¼ | FR-2167 | Cass Co. 91 Beltrami Co. 54
| 33 | Gov't Lot 6 | FR-2167 | Cass Co. 91 Beltrami Co. 54
| 33 | Gov't Lot 7 | FR-2167 | Cass Co. 91 Beltrami Co. 54
| 33 | SW¼NW¼ | FR-2167 | Cass Co. 91 Beltrami Co. 54
| 34 | Gov't Lot 7 | FR-2167 | Cass Co. 91 Beltrami Co. 54
| 34 | NW¼SW¼ | FR-2167 | Cass Co. 91 Beltrami Co. 54
T141N R30W | 1 | SW¼SW¼ | MN-200 | Minnesota State Highway 200
| 4 | Gov't Lot 4 | FR-3782 | 39Th Avenue Northwest
| 4 | Gov't Lot 4 | FR-3782A | Fr 3782 Spur A
| 4 | N½SW¼SW¼ | FR-3782 | 39Th Avenue Northwest
| 4 | N½SW¼SW¼ | MN-200 | Minnesota State Highway 200
| 4 | N½SW¼SW¼ | TWP-Turtle Lake 50 | Township Rd 50
| 4 | NW¼SW¼ | FR-3782 | 39Th Avenue Northwest
| 4 | SW¼NW¼ | FR-3782 | 39Th Avenue Northwest
| 5 | SW¼SE¼ | CAS-13 | Onigum Road—Cass County 13
| 5 | SE¼SW¼ | MN-200 | Minnesota State Highway 200
| 5 | SW¼SE¼ | MN-200 | Minnesota State Highway 200
| 5 | SW¼SW¼ | MN-200 | Minnesota State Highway 200
| 6 | Gov't Lot 4 | TWP-Shingobee 37 | Breezy Point Road Northwest
| 6 | Gov't Lot 5 | TWP-Shingobee 37 | Breezy Point Road Northwest
| 6 | Gov't Lot 6 | TWP-Shingobee 37 | Breezy Point Road Northwest
T142N R30W | 17 | N½SE¼NE¼ | BIA-1002 | Traders Bay Road Northwest
| 17 | N½SW¼NE¼ | BIA-1002 | Traders Bay Road Northwest
| 17 | NE¼NE¼ | BIA-1002 | Traders Bay Road Northwest
| 20 | Gov't Lot 1 | CAS-13 | Onigum Road—Cass County 13
| 20 | Gov't Lot 5 | CAS-13 | Onigum Road—Cass County 13
| 29 | SE¼SW¼ | CAS-13 | Onigum Road—Cass County 13
| 32 | SW¼SE¼ | FR-2461 | North Turtle Lake-Twp #24 East
| 35 | Gov't Lot 4 | FR-2657C | Rocky Point Road Northwest
| 35 | Gov't Lot 14 | FR-2657C | Rocky Point Road Northwest
| 36 | S½NE¼SW¼ | FR-2657B | Bluewater Beach Road NW
T143N R30W | 1 | Gov't Lot 5 | FR-2917 | West Shores Road Northwest
| 12 | Gov't Lot 3 | FR-2132 | Sucker Bay Road
| 12 | Gov't Lot 4 | FR-2132 | Sucker Bay Road
| 12 | NE¼NW¼ | FR-2132 | Sucker Bay Road
| 18 | Gov't Lot 2 | FR-3743 | Camper Landing Road Northwest
| 18 | Gov't Lot 3 | FR-3136 | Oak Point Road IRR 4
| 18 | Gov't Lot 3 | FR-3743 | Camper Landing Road Northwest
| 18 | Gov't Lot 4 | FR-3136 | Oak Point Road IRR 4
| 18 | Gov't Lot 9 | FR-3136 | Oak Point Road IRR 4
| 18 | NE¼NW¼ | FR-3743 | Camper Landing Road Northwest
T144N R30W | 1 | Gov't Lot 2 | FR-2135 | Ketchum Road
| 1 | Gov't Lot 3 | FR-2135 | Ketchum Road
| 36 | Gov't Lot 1 | FR-2917 | West Shores Road Northwest
T141N R31W | 13 | Gov't Lot 1 | FR-3764 | 64Th Street Northwest
| 13 | Gov't Lot 2 | MN-371 | Minnesota State Highway 371
T142N R31W | 4 | Gov't Lot 5 | MN-371 | Minnesota State Highway 371
| 5 | NE¼SE¼ | MN-371 | Minnesota State Highway 371
| 5 | NE¼SE¼ | TWP-Shingobee Unk7 | N Kabekona Dr NW
| 6 | Gov't Lot 8 | MN-200 | Minnesota State Highway 200
| 12 | Gov't Lot 2 | CAS-72 | Pine Point Drive NW
| 12 | Gov't Lot 9 | CAS-72 | Pine Point Drive NW
| 12 | Gov't Lot 11 | CAS-72 | Pine Point Drive NW
| 24 | Gov't Lot 2 | BIA-22 | Onigum Marina Dr NW
| 24 | Gov't Lot 2 | CAS-13 | Onigum Road—Cass County 13
T143N R31W | 12 | SW¼SW¼ | FR-3136 | Oak Point Road IRR 4
| 14 | NE¼NE¼ | FR-3136 | Oak Point Road IRR 4
| 14 | SE¼NE¼ | FR-3136 | Oak Point Road IRR 4
| 23 | Gov't Lot 3 | FR-3136 | Oak Point Road IRR 4
| 23 | Gov't Lot 4 | FR-3136 | Oak Point Road IRR 4
| 23 | NE¼SW¼ | FR-3136 | Oak Point Road IRR 4
| 23 | SE¼NW¼ | FR-3136 | Oak Point Road IRR 4
| 25 | NE¼NW¼ | FR-3136 | Oak Point Road IRR 4
| 25 | NW¼NE¼ | FR-3136 | Oak Point Road IRR 4
| 26 | Gov't Lot 6 | FR-3136 | Oak Point Road IRR 4
| 26 | Gov't Lot 9 | FR-3136 | Oak Point Road IRR 4
| 26 | SE¼NW¼ | FR-3136 | Oak Point Road IRR 4
| 26 | SW¼NE¼ | FR-3136 | Oak Point Road IRR 4
T144N R31W | 36 | NW¼NE¼ | FR-3136 | Oak Point Road IRR 4
T145N R31W | 13 | Gov't Lot 3 | US-2 | US Highway 2
| 13 | Gov't Lot 4 | US-2 | US Highway 2
| 13 | Gov't Lot 5 | US-2 | US Highway 2
| 13 | Gov't Lot 6 | US-2 | US Highway 2
| 14 | Gov't Lot 6 | FR-2073 | IRR 1014—Stony Point Cass Lk
| 14 | Gov't Lot 6 | US-2 | US Highway 2
| 14 | NE¼NE¼ | FR-2073 | IRR 1014—Stony Point Cass Lk
| 14 | NE¼NE¼ | US-2 | US Highway 2

Exhibit B

Reserved Easement Rights for Forest Easement Roads

The Forest Service and the Tribe have executed an agreement that the below reserved easement rights would be published in this Notice and govern ongoing Forest Service access to and maintenance of the Forest Easement Roads after the transfer of administrative jurisdiction of the Federal land containing those road and trail segments.

Reserved Forest Service Easement Rights Approved by Tribe

Pursuant to the Leech Lake Band of Ojibwe Reservation Restoration Act (Pub. L. 116-255, 134 Stat. 1139) (“the Act”), the Secretary of Agriculture, acting by and through the Forest Service (“Forest Service”), is publishing this Notice of Transfer (“Notice”) transferring administrative jurisdiction to the Federal land, as defined by the Act, to the Secretary of Interior, Bureau of Indian Affairs to hold in Trust for the benefit of the Leech Lake Band of the Minnesota Chippewa Tribe, also known as the Leech Lake Band of Ojibwe (“LLBO” or “Tribe”).

This Easement is reserved by the Forest Service, with agreement by the Tribe, for the below-indicated Forest road and Forest trail sections pursuant to federal authorities under the Act. Upon publication of the Notice affecting the Federal land containing the below-identified roads and trail (“Forest Easement Roads”), the Forest Service will continue to operate such roads and trail pursuant to the terms herein. The Forest Service or the Tribe may record this Easement in the Office of the County Recorder for Cass County. The Tribe shall ensure this Easement is recorded or processed as necessary to establish its effectiveness in the land records maintained by the Department of Interior, Bureau of Indian Affairs.

The locations of the Forest Easement Roads are listed in the table below and shown approximately on the maps available for inspection at the Chippewa National Forest Supervisor's Office. If a conflict arises between the table below and the maps available for inspection, the table below shall control.

Unless agreed to by the Forest Service and the Tribe in writing for a particular road, the Easement shall be 33 feet on each side of the centerline with such additional width as required for accommodation and protection of cuts and fills. The centerline of the roads and trail as present on the ground shall be considered the true centerline of the Easement reserved. This Easement includes the following terms and conditions to be held by the Forest Service:

A. Except as hereinafter limited, the Forest Service reserves the right to utilize, reconstruct, and maintain the Forest Easement Roads within the easement without further consideration for all purposes deemed necessary or desirable by the Forest Service.

The Forest Service reserves the right to extend rights and privileges for use of the Forest Easement Roads to other Federal, State, and local authorities, as well as other users including contractors, purchasers of forest products, and others including the public. The Forest Service shall manage, control and maintain the Forest Easement Roads subject to applicable law and regulation including but not limited to the Forest Roads and Trails Act of 1964 (16 U.S.C. 532-538), 23 U.S.C. 204-205, the Federal Land Policy and Management Act of 1976 (43 U.S.C. 1715), and applicable federal regulations, including 36 CFR part 212, all as amended, which management shall include required consultation with the Tribe. Such maintenance shall be to the specifications of the Forest Easement Roads at the time of the publication of the Notice of Transfer for the Federal lands containing the below Forest Easement Roads, or to such changed specifications later set by Forest Service management decisions pursuant to applicable law, including increasing or decreasing maintenance schedules or levels.

Pursuant to such management decisions under applicable law, the Forest Service may, following consultation with the Tribe, reconstruct or maintain the Forest Easement Roads to higher specifications. Notwithstanding anything herein to the contrary, all maintenance or reconstruction shall be performed consistent with Forest Service needs and funding, and nothing herein shall be construed to constitute a promise of payment in advance of or in excess of appropriations in violation of the Anti-Deficiency Act, 31 U.S.C. 1341.

Public access to the Forest Easement Roads listed in this Exhibit B shall be determined by the Forest Service in accordance with its regulations, including consultation with the LLBO, unless and until the Regional Forester determines in writing that the easement or any segment thereof are no longer needed as provided below. After such termination, access to the affected easement segments shall be determined solely by the LLBO.

B. The Forest Service may cut timber and remove obstructions within the easement to the extent the Forest Service deems necessary for utilizing, reconstructing, and maintaining the roads and trail. Timber so cut shall, unless otherwise agreed to, be decked along the road or trail for disposal by the Tribe.

This easement is reserved subject to the following rights of the Leech Lake Band of Ojibwe:

1. The right to use the Forest Easement Roads for all purposes deemed necessary or desirable by the LLBO. LLBO use shall be subject to construction, reconstruction, and maintenance costs commensurate with such use to the extent changes in its use of the below road and trail segments after the date of this Notice contribute to increased maintenance needs.

2. The right to access and cross the easement at any place by any means and manner that complies with the traffic-control regulations of the Forest Service and does not interfere unreasonably with the Forest Service use of the Forest Easement Roads.

3. The right to all timber now or hereafter growing on the easement subject to the Forest Service's right to cut such timber as hereinbefore provided.

This easement shall continue for the duration of time the below road segments remain Forest roads or, for the purposes of the Forest trail, a Forest trail, as defined under 36 CFR part 212, as amended. If the Regional Forester determines in writing that the easement or any segment thereof is no longer needed, the easement traversed thereby shall immediately terminate by operation of law, but shall be evidenced by a statement in recordable form furnished by the Regional Forester to the LLBO and the BIA.

Township range | Section | Legal Sub-division | Road ID | Road name
T144N R27W | 5 | Gov't Lot 14 | FR-2102 | Old Six Mile Lake Road NE.
| 5 | Gov't Lot 14 | FR-2127 | Six Mile Lake Road Northeast.
| 5 | Gov't Lot 15 | FR-2102 | Old Six Mile Lake Road NE.
| 5 | Gov't Lot 16 | FR-2127 | Six Mile Lake Road Northeast.
| 5 | Gov't Lot 17 | FR-2127 | Six Mile Lake Road Northeast.
| 5 | Gov't Lot 17 | FR-3013 | Mud Lake Spur 3013.
| 6 | Gov't Lot 10 | FR-2102 | Old Six Mile Lake Road NE.
| 6 | Gov't Lot 11 | FR-2102 | Old Six Mile Lake Road NE.
| 6 | Gov't Lot 12 | FR-2102 | Old Six Mile Lake Road NE.
| 8 | Gov't Lot 7 | FR-2127 | Six Mile Lake Road Northeast.
T146N R27W | 21 | NE¼SW¼ | FR-2163 | Tamarack Point Drive Northeast.
| 21 | SE¼SW¼ | FR-2163 | Tamarack Point Drive Northeast.
| 29 | Gov't Lot 4 | FR-3001 | South Highbanks Road Northeast.
| 29 | Gov't Lot 5 | FR-2163 | Tamarack Point Drive Northeast.
| 29 | Gov't Lot 5 | FR-2219 | North Highbanks Road NE.
| 31 | Gov't Lot 1 | FR-3001 | South Highbanks Road Northeast.
| 32 | Gov't Lot 1 | FR-3001 | South Highbanks Road Northeast
| 32 | SW¼NW¼ | FR-3001A | South Highbanks Spur A.
T141N R28W | 4 | E½SW¼SW¼ | FR-2868 | MN 200 Spur 2868.
| 4 | SE¼SW¼ | FR-2868 | MN 200 Spur 2868.
| 4 | E½SW¼SE¼ | FR-2872 | Grazing Study Road.
| 4 | SE¼SW¼ | FR-2868A | FR 2868 Spur A.
| 4 | W½SW¼SE¼ | FR-2868A | FR 2868 Spur A.
| 8 | Gov't Lot 1 | FR-2876 | Erwin Hills Drive Northeast.
| 8 | Gov't Lot 1 | FR-2876A | Erwin Hills Drive Spur A.
| 8 | Gov't Lot 2 | FR-2876 | Erwin Hills Drive Northeast.
| 4 | Gov't Lot 2 | FR-2876A | Erwin Hills Drive Spur A.
| 9 | NW¼NE¼ | FR-2872 | Grazing Study Road.
| 10 | NE¼NW¼ | FR-2599 | West Football Lake Road.
| 14 | S½SE¼NE¼ | FR-2875C | 64Th Street Northeast.
| 24 | NW¼SE¼ | FR-2884B | Fahrenholz Road Spur B.
T142N R28W | 27 | SE¼SW¼ | FR-3099 | Cass Co. 8 Spur 3099.
| 34 | NE¼NW¼ | FR-3098 | Cass Co. 8 Spur 3098.
| 34 | NE¼NW¼ | FR-3100 | Cass Co. 8 Spur 3100.
| 35 | Gov't Lot 2 | FR-3102 | Grouse Pines Lane Northeast.
| 35 | NE¼SE¼ | FR-3102 | Grouse Pines Lane Northeast.
T145N R28W | 19 | Gov't Lot 1 | FR-3025 | West Winnie Spur 3025.
| 19 | SE¼SE¼ | FR-2074 | Richards Drive Northeast.
| 19 | NE¼NW¼ | FR-3025 | West Winnie Spur 3025.
| 20 | NW¼SW¼ | FR-2074 | Richards Drive Northeast.
| 20 | SW¼NW¼ | FR-2074 | Richards Drive Northeast.
| 28 | SE¼NW¼ | FR-2129 | Boulder Hill.
| 28 | SE¼NW¼ | FR-3033 | Bena Old Dump.
| 34 | NE¼SW¼ | FR-3032 | Canadien John.
| 34 | NW¼SE¼ | FR-3032 | Canadien John.
T141N R29W | 10 | Gov't Lot 3 | FR-2834 | Lauer Road Northwest.
| 17 | N½SE¼NE¼ | FR-2108 | Whipholt Tower Road NW.
| 23 | Gov't Lot 3 | FR-2835 | West Mud Lake Road.
T144N R29W | 1 | NW¼SE¼ | FR-2941 | Rabbits Cemetery.
| 1 | SE¼NW¼ | FR-2941 | Rabbits Cemetery.
| 1 | SW¼SE¼ | FR-2941 | Rabbits Cemetery.
T145N R29W | 12 | NE¼SW¼ | FR-2010 | Snapping Turtle Lane Northwest.
| 23 | Gov't Lot 2 | FR-2175A | Portage Lake Drive Spur A
| 23 | SE¼SW¼ | FR-2175A | Portage Lake Drive Spur A.
| 24 | NW¼NE¼ | FR-2972 | Converse Road.
| 24 | SW¼NE¼ | FR-2972 | Converse Road.
| 24 | NW¼NE¼ | FR-3024A | Alimi Road Spur A.
T146N R29W | 33 | SW¼NW¼ | FR-2348 | Finn.
T141N R30W | 1 | SW¼SW¼ | FR-2657F | Smokey Point Road Spur F.
| 5 | SE¼SW¼ | FR-3780 | MN 200 Spur 3780.
| 5 | SW¼SE¼ | FR-3781 | MN 200 Spur 3781.
| 5 | SW¼SE¼ | FR-3992 | Onigum Gravel Pit.
| 6 | Gov't Lot 4 | FR-2658C | Breezy Point Road Spur C.
| 6 | Gov't Lot 4 | FR-2658D | Breezy Point Road Spur D.
| 6 | Gov't Lot 5 | FR-2658B | Breezy Point Road Spur B.
| 6 | Gov't Lot 6 | FR-2658A | Breezy Point Road Spur A.
| 8 | NE¼NW¼ | FR-3780 | MN 200 Spur 3780.
| 8 | NW¼NW¼ | FR-3780 | MN 200 Spur 3780.
| 8 | NW¼NE¼ | FR-3781 | MN 200 Spur 3781.
T142N R30W | 31 | Gov't Lot 4 | FR-2658D | Breezy Point Road Spur D.
| 32 | SW¼SE¼ | FR-2461A | North Turtle Lake Spur A.
T143N R30W | 18 | Gov't Lot 4 | FR-3136O | East Oak Point Road Spur O.
T144N R30W | 1 | Gov't Lot 2 | FR-2135Z | Elmers Trail.
| 1 | Gov't Lot 3 | FR-2135Z | Elmers Trail.
T145N R30W | 1 | Gov't Lot 5 | FR-2958 | Lydick Road.
| 1 | Gov't Lot 6 | FR-2958 | Lydick Road.
| 12 | Gov't Lot 1 | FR-2958 | Lydick Road.
| 12 | SW¼NE¼ | FR-2352 | Norich.
| 12 | SW¼NE¼ | FR-2958 | Lydick Road.
| 19 | Gov't Lot 1 | FR-2137 | Pike Bay Loop Northwest.
| 19 | Gov't Lot 2 | FR-2137 | Pike Bay Loop Northwest.
| 19 | Gov't Lot 3 | FR-2137 | Pike Bay Loop Northwest.
T142N R31W | 1 | SE¼SW¼ | FR-2639 | Pine Point.
| 11 | NE¼NE¼ | FR-2644 | Cedar Point/IRR 1715.
| 11 | NE¼NW¼ | FR-2644 | Cedar Point/IRR 1715.
| 11 | NW¼NE¼ | FR-2644 | Cedar Point/IRR 1715.
| 11 | NW¼NW¼ | FR-2644 | Cedar Point/IRR 1715.
| 11 | SE¼NE¼ | FR-2644 | Cedar Point/IRR 1715.
| 12 | Gov't Lot 4 | FR-2639 | Pine Point.
| 12 | Gov't Lot 10 | FR-2639 | Pine Point.
| 12 | Gov't Lot 11 | FR-2639 | Pine Point.
| 12 | N½NW¼SW¼ | FR-2639 | Pine Point.
| 12 | SW¼NW¼ | FR-2639 | Pine Point.
| 12 | W½NE¼NW¼ | FR-2639 | Pine Point.
| 12 | N½NW¼SW¼ | FR-2644 | Cedar Point/IRR 1715.
| 12 | SW¼NW¼ | FR-2644 | Cedar Point/IRR 1715.
| 14 | Gov't Lot 4 | FR-2123 | Cedar Point Road Northwest.
| 14 | Gov't Lot 5 | FR-2123 | Cedar Point Road Northwest.
| 14 | Gov't Lot 8 | FR-2123 | Cedar Point Road Northwest.
| 14 | Gov't Lot 9 | FR-2123 | Cedar Point Road Northwest.
| 24 | Gov't Lot 2 | FR-2123 | Cedar Point Road Northwest.
T143N R31W | 14 | SW¼SE¼ | FR-3600 | Beartrap.
| 23 | NE¼NE¼ | FR-3600 | Beartrap.
| 25 | NE¼NW¼ | FR-3136C | Oak Point Road Spur C.
| 25 | NW¼NE¼ | FR-3136C | Oak Point Road Spur C.
T144N R31W | 36 | NW¼NE¼ | FR-3734 | Crooked Lake Road Northwest.
T145N R31W | 13 | Gov't Lot 4 | FR-2174 | Strawberry Point Road NW.
| 13 | Gov't Lot 5 | FR-2174 | Strawberry Point Road NW.
| 13 | Gov't Lot 6 | FR-2174 | Strawberry Point Road NW.
| 22 | Gov't Lot 2 | FR-2138 | Bayview Loop Northwest.
| 22 | Gov't Lot 3 | FR-2138 | Bayview Loop Northwest.
| 22 | NW¼NW¼ | FR-2138 | Bayview Loop Northwest.
| 22 | SW¼NW¼ | FR-2138 | Bayview Loop Northwest.

Township range | Section | Legal sub-division | Trail ID | Trail name
T145N R30W | 19 | Gov't Lot 1 | 34674A | Migizi Bike—Spur A.
| 19 | Gov't Lot 2 | 34674A | Migizi Bike—Spur A.
| 19 | Gov't Lot 3 | 34674A | Migizi Bike—Spur A.
T145N R31W | 13 | Gov't Lot 3 | 34674 | Migizi Bike Trail.
| 13 | Gov't Lot 4 | 34674 | Migizi Bike Trail.
| 13 | Gov't Lot 5 | 34674 | Migizi Bike Trail.
| 13 | Gov't Lot 7 | 34674 | Migizi Bike Trail.
| 14 | Gov't Lot 6 | 34674 | Migizi Bike Trail.
| 36 | Gov't Lot 2 | 34674A | Migizi Bike—Spur A.

Dated: June 21, 2024.
Antoine L. Dixon,
Regional Forester.

[FR Doc. 2024-14086 Filed 6-27-24; 8:45 am]

BILLING CODE 3411-15-P